DEPARTMENT OF STATE

[Public Notice 8037]

U.S. Department of State Advisory Committee on Private International Law (ACPIL): Notice of Public Meeting of the Study Group on Choice of Law in International Commercial Contracts

The Office of the Assistant Legal Adviser for Private International Law, Department of State, hereby gives notice of a public meeting of the Study Group on Choice of Law in International Commercial Contracts. A working group of experts from various countries was established by the Hague Conference on Private International Law to develop non-binding principles relevant to the choice of law in international commercial contracts. The draft principles prepared by that group will be considered at a Special Commission of the Hague Conference to be held November 12-16. If the draft principles are approved by the Special Commission, it is expected that the working group will be requested to prepare a detailed commentary to accompany the principles. The purpose of the public meeting is to obtain the views of concerned stakeholders in advance of the Special Commission. This is not a meeting of the full Advisory Committee. The relevant documents can be found at the following links:

http://www.hcch.net/upload/wop/gap12pd04e.pdf (Report of the Working Group and draft principles);

http://www.hcch.net/upload/wop/contracts_agenda2012e.pdf (Agenda for Special Commission Meeting): and

http://www.hcch.net/upload/wop/gap2012concl_en.pdf (Conclusions and Recommendations of the Council).

Time and Place: The meeting will take place on October 19, 2012 from 10 a.m. to 2 p.m. EDT in Room 240, South Building, State Department Annex 4. Participants should arrive at the Navy Hill gate at the corner of 23rd Street NW., and D Street NW., before 9:30 a.m. for visitor screening. Persons arriving later will need to make arrangements for entry using the contact information provided below. If you are unable to attend the public meeting and would like to participate from a remote location, teleconferencing will be available.

Public Participation: This meeting is open to the public, subject to the capacity of the meeting room. Access to Navy Hill is strictly controlled. For pre-clearance purposes, those planning to attend in person are requested to email or phone Tricia Smeltzer (smeltzertk@state.gov, 202-776-8423) or Niesha Toms (tomsnn@state.gov, 202-776-8420) and provide your full name, address, date of birth, citizenship, driver's license or passport number, affiliation, and email address. This will greatly facilitate entry. Participants will be met at the Navy Hill gate at 23rd and D Streets NW., and will be escorted to the South Building.

A member of the public needing reasonable accommodation should advise Ms. Smeltzer or Ms. Toms not later than October 12, 2012. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: September 11, 2012.
Michael Dennis,
Office of Private International Law, Office of the Legal Adviser, Department of State.

[FR Doc. 2012-23337 Filed 9-20-12; 8:45 am]

BILLING CODE 4710-08-P